DEPARTMENT OF ENERGY

Federal Energy Regulatory Commission

[Docket No. ER01-3155-005, et al.]

New York Independent System Operator, Inc., et al., Electric Rate and Corporate Filings

August 6, 2003.

The following filings have been made with the Commission. The filings are listed in ascending order within each docket classification.

1. New York Independent System Operator, Inc.

[Docket Nos. ER01-3155-005, ER01-1385-014 and EL01-45-013]

Take notice that on July 11, 2003, New York Independent System Operator, Inc. (NYISO) tendered for filing with the Federal Energy Regulatory Commission (Commission) its response to the Commission's Order on Requests for Rehearing and Motion dated June 5, 2003 in Docket Nos. ER01-3155-003, ER01-1285-012 and EL01-45-011.

Comment Date: August 20, 2003.

2. Portland General Electric Company

[Docket No. ER03-1019-001]

Take notice that on August 1, 2003, Portland General Electric Company (PGE) tendered for filing Amended Revised Tariff Sheets to the Second Revised Volume No. 8 of PGE's FERC Electric Tariff. PGE states that the revisions are intended to broaden the application of Energy Imbalance Service Schedule 4 pursuant to PGE's Open Access Transmission Tariff (OATT), effective April 2, 2001.

PGE requests a waiver of the Commission's 60-day notice requirement and an effective date of June 1, 2003. PGE states that a copy of the filing was served upon the Oregon Public Utility Commission.

Comment Date: August 22, 2003.

3. Ameren Services Company

[Docket No. ER03-1146-000]

Take notice that on August 1, 2003, Ameren Services Company (ASC) tendered for filing Service Agreements for Network Integration Transmission Service and a Network Operating Agreement between ASC and the City of Jackson, Missouri (Customer). ASC states that the purpose of the Agreement is to permit ASC to provide transmission service to Customer pursuant to Ameren=s Open Access Transmission Tariff.

Comment Date: August 22, 2003.

4. Ameren Services Company

[Docket No. ER03-1147-000]

Take notice that on August 1, 2003, Ameren Services Company (ASC) tendered for filing Service Agreements for Network Integration Transmission Service and a Network Operating Agreement between ASC and Ameren Energy Marketing Company as agent for Caterpillar (Customer). ASC asserts that the purpose of the Agreement is to permit ASC to provide transmission service to Customer pursuant to Ameren's Open Access Transmission Tariff.

Comment Date: August 22, 2003.

5. New England Power Pool

[Docket No. ER03-1148-000]

Take notice that on August 1, 2003, the New England Power Pool (NEPOOL) Participants Committee filed for acceptance materials to permit NEPOOL to expand its membership to include Powerex Corp. (Powerex), and to terminate the membership of SmartEnergy, Inc. (SmartEnergy). The Participants Committee requests a August 1, 2003 effective date for commencement of participation in NEPOOL by Powerex and a July 1, 2003 effective date for the termination of SmartEnergy.

The Participants Committee states that copies of these materials were sent to the New England state governors and regulatory commissions and the Participants in NEPOOL.

Comment Date: August 22, 2003.

6. Reliant Energy Services, Inc., as agent for Reliant Energy Hunterstown, LLC

[Docket No. ER03-1164-000]

Take notice that on August 1, 2003, Reliant Energy Services, Inc., as agent for Reliant Energy Hunterstown, LLC (Hunterstown, LLC) tendered for filing, pursuant to Section 205 of the Federal Power Act (16 U.S.C.824d), and part 35 of the Federal Energy Regulatory Commission's Rules of Practice and Procedure, a rate schedule for reactive power to be provided to the PJM Interconnection, LLC transmission grid. Hunterstown, LLC requests an effective date of September 1, 2003.

Comment Date: August 22, 2003.

7. Texas-New Mexico Power Company

[Docket No. ES03-45-000]

Take notice that on July 31, 2003, Texas-New Mexico Power Company (Texas-New Mexico) submitted an application pursuant to section 204 of the Federal Power Act seeking authorization to issue long-term, unsecured debt in an amount not to exceed $250 million.

Texas-New Mexico also requests a waiver from the Commission's competitive bidding and negotiated placement requirements at 18 CFR 34.2.

Comment Date: August 27, 2003.

8. Florida Keys Electric Cooperative Association, Inc.

[Docket No. ES03-46-000]

Take notice that on August 1, 2003, Florida Keys Electric Cooperative Association, Inc. (Florida Keys) submitted an application pursuant to section 204 of the Federal Power Act seeking authorization to issue long-term, mortgage notes in an amount equal to $11.2 million. Florida Keys also requests a waiver from the Commission's competitive bidding and negotiated placement requirements at 18 CFR 34.2.

Comment Date: August 27, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20853 Filed 8-14-03; 8:45 am]

BILLING CODE 6717-01-P